ENVIRONMENTAL PROTECTION AGENCY

[Petition IV-2021-6; FRL-9888-01-R4]

Clean Air Act Operating Permit Program; Petition for Objection to State Operating Permit for UOP Mobile Plant (Mobile County, Alabama)

AGENCY: Environmental Protection Agency (EPA).

ACTION: Notice of final order on petition to object to state operating permit.

SUMMARY: The Environmental Protection Agency (EPA) Administrator signed an Order, dated April 27, 2022, granting in part and denying in part the petition submitted by Greater-Birmingham Alliance to Stop Pollution (Petitioner) objecting to a proposed Clean Air Act (CAA) title V operating permit issued to UOP LLC for its Mobile Plant located in Mobile County, Alabama. The Order responds to an April 2, 2021, petition requesting that EPA object to the final operating permit No. 503-8010. This permitting action was issued by the Alabama Department of Environmental Management (ADEM). The Order constitutes a final action on the petition addressed therein.

ADDRESSES: Copies of the Order, the petition, and all pertinent information relating thereto are on file at the following location: EPA Region 4; Air and Radiation Division; 61 Forsyth Street SW, Atlanta, Georgia 30303-8960. The Order is also available electronically at the following address: https://www.epa.gov/system/files/documents/2022-05/UOP%20Order_4-27-22.pdf.

FOR FURTHER INFORMATION CONTACT: Art Hofmeister, Air Permits Section, Air Planning Implementation Branch, Air and Radiation Division, U.S. Environmental Protection Agency, Region 4, 61 Forsyth Street SW, Atlanta, Georgia 30303-8960. The telephone number is (404) 562-9115. Mr. Hofmeister can also be reached via electronic mail at hofmeister.art@epa.gov.

SUPPLEMENTARY INFORMATION: The CAA affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of EPA's 45-day review period if the EPA has not objected on its own initiative. Petitions must be based only on objections to the permit that were raised with reasonable specificity during the public comment period provided by the state, unless the petitioner demonstrates that it was impracticable to raise these issues during the comment period or the grounds for the issues arose after this period. Pursuant to sections 307(b) and 505(b)(2) of the CAA, a petition for judicial review of those parts of the Order that deny issues in the petition may be filed in the United States Court of Appeals for the appropriate circuit within 60 days from the date this notice is published in the Federal Register.

Petitioner submitted a petition requesting that EPA object to the proposed CAA title V operating permit no. 503-8010 issued by ADEM to the UOP Mobile Plant. Petitioner claims: The statement of basis lacks substantive information for adequate public review; ADEM failed to demonstrate that monitoring requirements are consistent with respect to applicable requirements; ADEM failed to demonstrate the source is entitled to a permit shield; the permit fails to include underlying citations of authority with respect to applicable permit conditions; the permit includes synthetic minor limits that are not practically enforceable; and ADEM failed to adequately respond to Petitioner's comments.

On April 27, 2022, the Administrator issued an Order granting in part and denying in part the petition. The Order explains EPA's bases for granting in part and denying in part the petition.

Dated: May 20, 2022.
Daniel Blackman,
Regional Administrator, Region 4.

[FR Doc. 2022-11292 Filed 5-25-22; 8:45 am]

BILLING CODE 6560-50-P